DEPARTMENT OF AGRICULTURE

Natural Resources Conservation Service

Notice of Proposed Changes to the Natural Resources Conservation Service's National Handbook of Conservation Practices

AGENCY: Natural Resources Conservation Service (NRCS), USDA.

ACTION: Notice of availability of proposed changes in the NRCS National Handbook of Conservation Practices for public review and comment.

SUMMARY: Notice is hereby given of the intention of NRCS to issue a series of revised conservation practice standards in its National Handbook of Conservation Practices. These standards include: Anaerobic Digester (Code 366); Anionic Polyacrylamide (PAM) Application (Code 450); Brush Management (Code 314); Fish Raceway or Tank (Code 398); Irrigation Ditch Lining (Code 428); Irrigation Pipeline (Code 430); Irrigation Reservoir (Code 436); Surface Drain, Field Ditch (Code 607); Surface Drainage, Main or Lateral (Code 608); Roof Runoff Structure (Code 558); and Surface Roughening (Code 609). NRCS State Conservationists who choose to adopt these practices for use within their States will incorporate them into Section IV of their respective electronic Field Office Technical Guides. These practices may be used in conservation systems that treat highly erodible land or on land determined to be a wetland.

DATES: Effective Dates: Comments will be received for a 30-day period, commencing with this date of publication. Final versions of these new or revised conservation practice standards will be adopted after the close of the 30-day period, and after consideration of all comments.

ADDRESSES: Comments should be submitted by one of the following methods:

1. In Writing to: National Agricultural Engineer, NRCS, Post Office Box 2890, Washington, DC 20013-2890; or

2. Electronically via e-mail to: Wayne.Bogovich@wdc.usda.gov.

FOR FURTHER INFORMATION: Copies of these standards can be downloaded or printed from the following Web site: ftp://ftp-fc.sc.egov.usda.gov/NHQ/practice-standards/federal-register/. Single copies of paper versions of these standards also are available from NRCS in Washington, DC. Submit individual inquiries in writing to Wayne Bogovich, National Agricultural Engineer, NRCS, Post Office Box 2890, Room 6139-South, Washington, DC 20013-2890; or e-mail: wayne.bogovich@wdc.usda.gov.

SUPPLEMENTARY INFORMATION: The amount of the proposed changes varies considerably for each of the Conservation Practice Standards addressed in this notice. To fully understand the proposed changes, individuals are encouraged to compare these changes with each standard's current version shown at: http://www.nrcs.usda.gov/technical/Standards/nhcp.html. To aid in this comparison, following are highlights of the proposed revisions to each standard:

Anaerobic Digester (Code 366)—Two existing practice standards were combined (Anaerobic Digester—Ambient Temperature (Code 365) and Anaerobic Digester—Controlled Temperature (Code 366) into a revised 366 Anaerobic Digester standard. Every section of this standard has been edited to ensure that it addresses all types of anaerobic digesters.

Anionic Polyacrylamide (PAM) Application (Code 450)—The title was changed from “PAM Erosion Control.” Safety and Health considerations and references were added.

Brush Management (Code 314)—Substantial changes are proposed to this practice standard. Prescribed burning is removed as a brush management treatment. Only chemical, mechanical, and biological treatments are included. Prescribed burning for brush management purposes is covered in the Prescribed Burning (Code 338) standard. In the Purpose Section, wildfire hazard reduction has changed to be more comprehensive. In the criteria section, use of Ecological Site Descriptions has been added as a requirement. Further, the criteria section was enhanced to specifically address wildlife concerns. The plans and specifications section has been expanded to include requirements for monitoring.

Fish Raceway or Tank (Code 398)—For the most part, only minor editorial or grammatical changes have been made to this standard. The only significant change within the standard was to remove the exclusion of hatchery operations from the Conditions Where Practice Applies section. NRCS reviews standards periodically to ensure they are still current; this was primarily the situation for this standard.

Irrigation Ditch Lining (Code 428)—The title changed from “Irrigation Water Conveyance, Ditch and Canal Lining,” combining the three previous separate standards for Plain Concrete (A), Flexible Membrane (B), and Galvanized Steel (C). Criteria for Chemical Linings and references were added.

430 Irrigation Pipeline (Code 430)—The title was changed from “Irrigation Water Conveyance, Pipeline, (various),” combining six previous separate standards for Aluminum Tubing (AA), Nonreinforced Concrete (CC), High-Pressure, Underground Plastic (DD), Low-Pressure, Underground Plastic (EE), Steel (FF), and Reinforced Plastic Mortar (GG). The standard for Asbestos-Cement Pipe (BB) was deleted. Criteria in NEH-636, Chapter 52 “Structural Design of Flexible Conduits” are referenced. Langelier Saturation Index equation and references were added.

436 Irrigation Reservoir (Code 436)—The titles were changed and standards combined for “Irrigation Regulating Reservoir” (552) and “Irrigation Storage Reservoir” (436). Considerations were expanded and references added.

Surface Drain (Code 607)—The title was changed from “Surface Drainage, Field Ditch.” Criteria for capacity was added, considerations expanded, and references were added.

Surface Drainage, Main or Lateral (Code 608)—The text was streamlined and references were added.

Roof Runoff Structure (Code 558)—No significant changes are proposed to this practice standard. NRCS reviews standards periodically to ensure they are still current; this was the situation for this standard.

Surface Roughening (Code 609)—No significant technical changes are proposed to this practice standard; however, significant edits and grammatical changes have been made. The Purposes section has been edited for clarity, and as a result, the number of purposes has been reduced. However, the intent of the edits was to exclude previous purposes, just merge existing ones into more clearly worded statements. In the criteria section, procedure type narratives were removed. In the considerations section, additional considerations were added to address emergency tillage, the initial tillage operation, and the direction of tillage.

Section 343 of the Federal Agriculture Improvement and Reform Act of 1996, requires NRCS to make available for public review and comment all proposed revisions to conservation practice standards used to carry out the highly erodible land and wetland provisions of the law. For the next 30 days, NRCS will receive comments relative to the proposed changes. Following that period, a determination will be made by NRCS regarding disposition of those comments, and a final determination of changes will be made.

Signed in Washington, DC, on March 25, 2009.
Dave White,
Acting Chief.

[FR Doc. E9-8536 Filed 4-14-09; 8:45 am]

BILLING CODE 3410-16-P